DEPARTMENT OF THE INTERIOR

Bureau of Land Management

[19X.LLAZAG02000.L54400000.EU0000.LVCLA19A5450; AZA-018673]

Notice of Realty Action: Non-Competitive (Direct) Sale and Conveyance of Reversionary Interests of Public Land in Cochise County, Arizona, for Fry Fire District, Arizona, Recreation and Public Purposes Act Patent 02-85-0038

AGENCY: Bureau of Land Management, Interior.

ACTION: Notice of realty action.

SUMMARY: The Bureau of Land Management (BLM) is proposing a noncompetitive (direct) sale of the Federal reversionary interest of 2.50 acres of previously patented land in a Recreation and Public Purposes Act patent in Cochise, Arizona, at no less than the appraised fair market value, to the Fry Fire District, Arizona.

DATES: Interested parties may submit written comments regarding this proposed conveyance on or before January 29, 2021.

ADDRESSES: Comments concerning this notice should be addressed to Jayme Lopez, Field Office Manager, BLM Tucson Field Office, 3201 East Universal Way, Tucson, AZ 85756. Comments may also be faxed to 520-258-7238, or emailed to: blm_az_gdo_comments@blm.gov.

FOR FURTHER INFORMATION CONTACT: Bill Werner, Realty Specialist, at the above address; telephone 520-258-7228; email wwerner@blm.gov. Persons who use a telecommunications device for the deaf (TDD) may call the Federal Relay Service (FRS) at 1-800-877-8339 to contact the above individual during normal business hours. The FRS is available 24 hours a day, 7 days a week, to leave a message or question for the above individual. You will receive a reply during normal business hours.

SUPPLEMENTARY INFORMATION: The BLM has examined and found the sale of the Federal reversionary interest in Recreation and Public Purposes Act Patent 02-85-0038 suitable for conveyance under Section 203 of the Federal Land Policy and Management Act (Pub. L. 94-579; 43 U.S.C. 1713):

Gila and Salt River Meridian, Arizona

T. 22 S., R. 21 E.,

Sec. 34, NW¼NW¼SW¼NE¼.

The area described contains 2.50 acres.

A map delineating the parcel is available for public review at the BLM Tucson Field Office at the address above and online at https://eplanning.blm.gov/eplanning-ui/project/2000251/510.

This Notice informs the public of an application submitted by the Fry Fire District, Arizona, for a non-competitive sale and conveyance of the reversionary interests of public land in Cochise County for the District's Recreation and Public Purposes Act patent 02-85-0038, held since 1985, for a fire station.

The conveyance is requested by the Fry Fire District in order to commercially lease its facilities, which is currently prohibited under the Recreation and Public Purposes patent it holds. This would enable the Fry Fire District to commercially lease its facilities, including placement of infrastructure such as cell towers, generating revenue to support its firefighting and emergency medical services to the public.

Issuance of the document of conveyance, a new patent, is in accordance with the 1992 Safford District Resource Management Plan (DOI-BLM-AZ-G010-1992-RMP-EIS) and the 1994 Land Tenure Amendment to the Safford District Resource Management Plan (EA/Decision Record No. AZ-040-04-12). Conveyance of the reversionary interest in the land is consistent with applicable Federal and county land use plans and meets the needs of the community. The land is not required for any other Federal purpose. This disposal would not impede access to Federal lands used for recreation, as the Federal lands in the vicinity would continue to have public access.

Application Comments: Interested parties may submit comments regarding the specific use proposed in the application or any other factor not directly related to the sale of the reversionary interest. The BLM will review and determine the validity of any adverse comments. In the absence of any adverse comments, the decision will become final. The lands will not be offered for conveyance until a determination of significance and Decision Record have been signed for the completed Environmental Assessment DOI-BLM-AZ-A020-2020-0029-EA found at: https://eplanning.blm.gov/eplanning-ui/project/2000251/510.

Before including your address, phone number, email address, or other personal identifying information in your comment, you should be aware that your entire comment, including your personal identifying information, may be made available to the public at any time. While you can ask in your comment to withhold your personal identifying information from public review, we cannot guarantee that we will be able to do so.

Authority: 43 CFR 2711.

Jayme M. Lopez,
Field Manager.

[FR Doc. 2020-27556 Filed 12-14-20; 8:45 am]

BILLING CODE 4310-32-P